Presidential Determination No. 2018-07 of April 30, 2018

Presidential Determination on the Proposed Agreement Between the Government of the United States of America and the Government of the United Kingdom of Great Britain and Northern Ireland for Cooperation in Peaceful Uses of Nuclear Energy

Memorandum for the Secretary of State [and] the Secretary of Energy

I have considered the proposed Agreement between the Government of the United States of America and the Government of the United Kingdom of Great Britain and Northern Ireland for Cooperation in Peaceful Uses of Nuclear Energy (the “Agreement”), along with the views, recommendations, and statements from interested departments and agencies.

I have determined that the performance of the proposed Agreement will promote, and will not constitute an unreasonable risk to, the common defense and security.

By the authority vested in me as President by the Constitution and the laws of the United States, including section 123 b. of the Atomic Energy Act of 1954, as amended (42 U.S.C. 2153(b)), I hereby approve the proposed Agreement and authorize the Secretary of State to arrange for its execution.

The Secretary of State is authorized and directed to publish this determination in the Federal Register.

THE WHITE HOUSE,

Washington, April 30, 2018

[FR Doc. 2018-09885

Filed 5-7-18; 8:45 am]

Billing code 4710-10-P